DEPARTMENT OF ENERGY

Federal Energy Regulatory Commission

[Docket No. CP00-395-000]

Transcontinental Gas Pipe Line Corporation; Notice of Request Under Blanket Authorization

June 28, 2000.

Take notice that on June 21, 2000, Transcontinental Gas Pipe Line Corporation (Transco), Post Office box 1396, Houston, Texas 77251, filed in Docket No. CP00-395-000 a request pursuant to Sections 157.205 and 157.208 of the Commission's Regulations (18 CFR 157.205 and 157.208) under the Natural Gas Act (NGA) for authorization to modify all of its existing reciprocating engines at Compressor Station No. 40 in Hardin County, Texas under Transco's blanket certificate issued in Docket No. CP82-426-000, et al. pursuant to section 7 of the NGA, all as more fully set forth in the application which is on file with the Commission and open to public inspection. This filing may be viewed on the web at http://www.ferc.fed.us/online/htm (call 202-208-2222 for assistance).

Transco requests authorization to install turbochargers and associated equipment on all 6 of the reciprocating engines in order to reduce NOX emissions and to comply with the State of Texas plan to implement the Clean Air Act Amendments of 1990. Transco states that the facilities will be used to reduce emissions by achieving a true lean air-fuel ratio, inject high pressure fuel directly into the power cylinders and make other engine adjustments. Transco also indicates that the true lean air-fuel ratio coupled with the high pressure fuel injection works by promoting stable combustion characteristics and thus reduces the formation of NOX. Transco further states that the injection of high pressure fuel directly into the power cylinders significantly improves the combustion process by producing a more homogeneous mixture of air and fuel within the power cylinder. Transco estimates the cost of the facilities at $10,200,000.00.

Any questions regarding the application may be directed to Scott Long, at Transco Gas Pipe Line Corporation, P.O. Box 1396, Houston, Texas 77251, (713) 215-2731.

Any person or the Commission's staff may, within 45 days after the issuance of the instant notice by the Commission, file pursuant to Rule 214 of the Commission's Procedural Rules (18 CFR 385.214) a motion to intervene or notice of intervention and, pursuant to section 157.205 of the Commission's regulations under the NGA (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to section 7 of the NGA.

Linwood A. Watson, Jr.,
Acting Secretary.

[FR Doc. 00-16838 Filed 7-3-00; 8:45 am]

BILLING CODE 6717-01-M